SMALL BUSINESS ADMINISTRATION

Public Meeting

The Rocky Mountain States Regulatory Fairness Board will hold a public hearing on May 1, 2000 at the Sheraton Hotel/Sioux Falls Convention Center, 1211 N. West Av., Sioux Falls, SD at 1 p.m. The purpose of the hearing is to receive comments and testimony from small businesses and representatives of trade associations concerning regulatory enforcement or compliance actions taken by federal agencies. Transcripts of these proceedings will be posted on the Internet. These transcripts are subject only to limited review by the National Ombudsman. Contact: Gary P. Peele (312) 353-0880.

Bettie Baca,
Counselor to the Administrator/Public Liaison.

[FR Doc. 00-10198 Filed 4-21-00; 8:45 am]

BILLING CODE 8025-01-P